DEPARTMENT OF HOMELAND SECURITY

Office of the Secretary

Senior Executive Service Performance Review Board

AGENCY: Office of the Secretary, DHS.

ACTION: Notice.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service, Senior Level and Senior Professional positions of the Department.

DATES: Effective Dates: This Notice is effective September 26, 2011.

FOR FURTHER INFORMATION CONTACT: Elizabeth Haefeli, Office of the Chief Human Capital Officer, telephone (202) 357-8164.

SUPPLEMENTARY INFORMATION: Each Federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Aguilar, David V.

Alexander, Barbara

Alvarez, Luis

Anderson, Audrey

Anderson, Gary

Anderson, Penny

Andrews, John

Armstrong, Charles R.

Armstrong, Sue

Athmann, Ronald

Ayala, Janice

Barber, Delores

Baroukh, Nader

Bartoldus, Charles

Bathurst, Donald

Bauhs, Kim

Beagles, James

Beckham, Steward

Bednarz, Jacquelyn

Beers, Rand

Benda, Paul

Bernstein, Jarrod

Bester-Markowitz, Margot

Borkowski, Mark S.

Borras, Rafael

Boyce, Donald

Bray, Robert S.

Brooks, Vicki

Brown, Dallas

Brown, Meddie

Brundage, William

Brunjes, David

Bucella, Donna A.

Bucher, Steven P.

Buckingham, Patricia

Burke, Richard

Butcher, Michael

Button, Christopher

Byrne, Michael

Byrne, Sean J.

Cahill, Donna L.

Callahan, Mary Ellen

Canton, Lynn

Carpenter, Dea D.

Carson, Rebecca S.

Carwile, William

Castro, Raul

Caverly, Robert

Chaparro, James

Chavez, Richard

Chuang, Theodore

Clark, Sheila

Clever, Daniel

Cline, Richard

Coffman, Katherine M.

Cogswell, Patricia

Cohen, John

Cohn, Alan

Colburn, C. Brent

Coleman, Corey

Conklin, William

Connor, Edward

Contreras, January

Cooper, Bradford

Coose, Matthew

Cornelius F. Tate

Correa, Soraya

Cummiskey, Chris

Daitch, William

Danelo, Daniel J.

Davis, Delia

Davis, Robert

de Vallance, Brian

Dean, Nicole

DeVita, Charles

DiFalco, Frank

Dinkins, James

Dong, Norman

Duffy, Patricia M.

Dunlap, James L.

Durette, Paul

Durkovich, Caitlin

Edwards, Eric

Elias, Richard K.

Emerson, Catherine

Essid, Michael

Etzel, Jean

Fagerholm, Eric N.

Falk, Scott K.

Farley, Evan

Fenton, Robert

Fisher, Michael J.

Flinn, Shawn O.

Flynn, William

Fonash, Peter

Fox, Kathleen

Freeman, Beth

Fudge Finegan, Robin

Fugate, Craig

Gabbrielli, Tina

Gaines, Glenn

Gantt, Kenneth

Garratt, David

Garwood, Thomas

Garza, Alexander

Gersten, David

Gina, Allen

Gnerlich, Jan

Goode, Brendan

Gowadia, Huban

Grade, Deborah C.

Gramlick, Carl

Graves, Margaret

Griffin, Robert P., Ph.D

Grimm, Michael

Gross-Davis, Leslie

Grossman, Seth

Gruber, Corey

Guilliams, Nancy W.

Halinski, John W.

Hardiman, Tara

Harman, Elizabeth

Havranek, John

Hewitt, Ronald RADM

Heyman, David

Hill, Alice

Hill, Keith O.

Hill, Mark

Hochman, Kathleen T.

Holtermann, Keith

Hooks, Robert

Ingram, Deborah

Jensen, Robert

Johnson, Bart

Jones, Berl

Jones, Christopher

Jones, Franklin C.

Jones, Keith

Jones, Rendell L.

Kair, Lee R.

Karoly, Stephen

Kaufman, David

Keene, Kenneth D.

Keil, Todd

Kendall, Sarah

Kenney, Fred RADML

Kerner, Francine

Kessler, Tamara

Kibble, Kumar C.

Kieserman, Brad J.

Kish, James

Knight, Sandra

Kopel, Richard

Kostelnik, Michael C.

Koumans, Marnix

Krizay, Glenn

Kroloff, Noah

Kronish, Matthew

Kropf, John

Kruger, Mary

Kruger, Randy

Kubiak, Lev J.

Langlois, Joseph E.

Lederer, Calvin M.

Lew, Kimberly

Luczko, George P.

Ludtke, Meghan G.

Lute, Jane Holl

Lyon, Shonnie

Madon, James

Maher, Joseph B.

Manning, Timothy

Markey, Elizabeth

Marshall, Gregory

Martin, Timothy

Martoccia, Anthony

May, Daniel RADM

May, Major

McConnell, Bruce

McCormack, Luke

McDermond, James E.

McGruder, Richard

McGurk, Sean Paul

McNamara, Jason

McNamara, Philip

Menna, Jenny

Merritt, Marianna L.

Merritt, Michael

Meyer, John

Micone, Vincent

Mintz, Terry

Mitchell, Andrew

Mocny, Robert

Monette, Theodore

Monica, Donald J.

Montgomery, Cynthia

Morrissey, Paul S.

Moses, Patrick

Moynihan, Timothy

Muenchau, Ernest

Murphy, Kenneth

Myers, David

Napolitano, Janet

Nayak, Nick

Nelson, Mickey M.

Neufeld, Donald W.

Novak, Michael

Olavarria, Esther

Oliver, Clifford

Onieal, Denis

Oritz, Raul

Palmer, David J.

Parent, Wayne

Patrick, Connie L.

Patterson, Leonard

Peacock, Nelson

Penn, Damon

Philbin, Patrick

Phillips, Sally

Pierson, Julia A.

Potts, Michael

Pressman, David

Prewitt, Keith L.

Quijas, Louis

Ragsdale, Daniel

Ramanathan, Sue

Randolph, William

Ratliff, Gerri L.

Rhew, Perry J.

Robles, Alfonso

Roche, William

Rogers, Debra

Rossides, Gale D.

Russell, Anthony

Rynes, Joel

Salazar, Ronald

Sampson, Timothy

Sandweg, John

Saunders, Steve

Savastana, Anthony J.

Schaffer, Gregory

Schied, Eugene H.

Schlanger, Margo

Schreiber, Tonya

Scialabba, Lori L.

Seale, Mary

Sekar, Radha

Serino, Richard

Sevier, Adrian

Shlossman, Amy

Silver, Mariko

Singleton, Kathy

Sligh Jr., Albert B.

Smislova, Melissa

Smith, A.T.

Smith, Douglas

Smith, William

Stallworth, Charles E.

Stanley, Kathleen M.

Stempfley, Roberta

Stern, Warren

Stewart, Sharon

Stinnett, Melanie S.

Strack, Barbara L.

Stroud, Dennie Michael

Sullivan, Mark

Swain, Donald

Teets, Gregory

Thomas, Burt

Tierney, MaryAnn

Tomsheck, James F.

Torrence, Donald

Triner, Donald

Trissell, David

Ulianko, John

Velasquez, Andrew

Velerde, Barbara Q.

Venture, Veronica

Veysey, Anne

Vincent, Peter S.

Wagner, Caryn

Walke, James

Walton, Kimberly H.

Ward, Nancy

Ward, Patrice

Warrick, Thomas

Whalen, Mary Kate

Williams, Gerard

Williams, Grayling

Williams, Richard N.

Winkowski, Thomas S.

Woodard, Steven

Wright, Joseph W.

Wulf, David

Yeager, Michael J.

Zimmerman, Elizabeth

This notice does not constitute a significant regulatory action under section 3(f) of Executive Order 12866. Therefore, DHS has not submitted this notice to the Office of Management and

Budget. Further, because this notice is a matter of agency organization, procedure and practice, DHS is not required to follow the rulemaking requirements under the Administrative Procedure Act (5 U.S.C. 553).

Dated: September 16, 2011.
Shonna R. James,
Director, Executive Resources, Office of the Chief Human Capital Officer.

[FR Doc. 2011-24577 Filed 9-23-11; 8:45 am]

BILLING CODE 9110-9B-P